DEPARTMENT OF HEALTH AND HUMAN SERVICES

Substance Abuse and Mental Health Services Administration

Targeted Capacity Expansion Grant Program Funding Decisions

AGENCY: Center for Substance Abuse Treatment (CSAT), Substance Abuse and Mental Health Services Administration (SAMHSA), HHS.

ACTION: Notice regarding SAMHSA/CSAT's funding decision-making process, interest in making grant awards to eligible entities in States that do not currently have CSAT Targeted Capacity Expansion funding, and intent to revise Program Announcement.

This notice is to inform the public that it is SAMHSA/CSAT's intent to ensure the broadest possible distribution of Targeted Capacity Expansion program funds across the United States. Therefore, the number of awards to applicants from any one State may be limited in order to ensure that applicants from States with few or no grant awards will have an opportunity to receive funding for proposed projects that are deemed worthy of funding via the peer and National Advisory Council review processes.

This notice is also to inform the public that SAMHSA/CSAT is interested in receiving applications from units of local (cities, towns, counties) governments and Indian Tribes and tribal organizations in States that do not currently have a Targeted Capacity Expansion award. States in which no eligible entities currently have an award are: Delaware; Georgia; Hawaii; Kansas; Minnesota; Nevada; Utah; U.S. Virgin Islands; and Vermont.

Eligibility and programmatic requirements for the Targeted Capacity Expansion program are included in the funding announcement (PA 00-001) published in the Federal Register on January 18, 2000. However, potential applicants should be aware that SAMHSA/CSAT intends to revise the program guidelines and reissue the Targeted Capacity Expansion funding announcement immediately following the May 10, 2002, receipt date for applications. The revised guidelines will be announced in the Federal Register and will be available for downloading from SAMHSA's Web site- www.samhsa.gov.

Copies of the current Part I—Programmatic Guidance for Targeted Capacity Expansion (PA 00-001) and Part II—General Policies and Procedures Applicable to all SAMHSA Applications for Discretionary Grants and Cooperative Agreements may be downloaded from SAMHSA's Web site- www.samhsa.gov, or may be ordered from the National Clearinghouse for Alcohol and Drug Information (NCADI), phone number 800-729-6686.

The program contact for additional information is: James M. Herrell, Ph.D., Center for Substance Abuse Treatment/SAMHSA, Rockwall II, Suite 740, 5600 Fishers Lane, Rockville, MD 20857, (301) 443-2376.

Dated: May 20, 2002.
Richard Kopanda,
Executive Officer, Substance Abuse and Mental Health Services Administration.

[FR Doc. 02-13025 Filed 5-22-02; 8:45 am]

BILLING CODE 4162-20-P